DEPARTMENT OF TRANSPORTATION

Surface Transportation Board

[STB Ex Parte No. 646 (Sub-No. 2)]

Simplified Standards for Rail Rate Cases—Taxes in Revenue Shortfall Allocation Method; Correction

AGENCY: Surface Transportation Board, DOT.

ACTION: Notice; correction.

SUMMARY: The Surface Transportation Board published a document in the Federal Register on January 30, 2009, which directed the Association of American Railroads, and permitted other parties, to file supplemental evidence so that the Board has a full record on which to base its methodology to calculate a railroad-specific average state tax rate for use in the Revenue Shortfall Allocation Method. The published document contained an incorrect date.

FOR FURTHER INFORMATION CONTACT: Timothy J. Strafford, (202) 245-0356.

Correction

In the Federal Register of January 30, 2009, in FR Doc. 09-02056, on page 5727, in the third column, correct, “Decided: January 23, 2008,” to read, “Decided: January 23, 2009.” All other information remains unchanged.

Dated: January 30, 2009.
Jeffrey Herzig,
Clearance Clerk.

[FR Doc. E9-2357 Filed 2-3-09; 8:45 am]

BILLING CODE 4915-01-P